DEPARTMENT OF TRANSPORTATION

Office of the Secretary

Application of Priester Aviation, LLC for Certificate Authority

AGENCY: Department of Transportation.

ACTION: Notice of Order to Show Cause (Order 2008-7-0067); Dockets DOT-OST-2008-0066 and DOT-OST-2008-0067.

SUMMARY: The Department of Transportation is directing all interested persons to show cause why it should not issue an order finding Priester Aviation, LLC, fit, willing, and able, and awarding it certificates of public convenience and necessity to engage in interstate and foreign charter air transportation of persons, property and mail.

DATES: Persons wishing to file objections should do so no later than August 8, 2008.

ADDRESSES: Objections and answers to objections should be filed in Dockets DOT-OST-2008-0066 and DOT-OST-2008-0067 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue, SE., Washington, DC 20590, (202) 366-7785.

Dated: July 23, 2008.
Michael W. Reynolds,
Acting Assistant Secretary for Aviation and International Affairs.

[FR Doc. E8-17460 Filed 7-29-08; 8:45 am]

BILLING CODE 4910-9X-P